DEPARTMENT OF JUSTICE

Antitrust Division

Notice Pursuant to the National Cooperative Research and Production Act of 1993—1EdTech Consortium, Inc.

Notice is hereby given that, on August 18, 2022, pursuant to Section 6(a) of the National Cooperative Research and Production Act of 1993, 15 U.S.C. 4301 et seq. (“the Act”), 1EdTech Consortium, Inc. (“1EdTech Consortium”) has filed written notifications simultaneously with the Attorney General and the Federal Trade Commission disclosing changes in its membership. The notifications were filed for the purpose of extending the Act's provisions limiting the recovery of antitrust plaintiffs to actual damages under specified circumstances. Specifically, Better Examinations, Dublin, IRELAND; BPS Bildungsportal Sachsen GmbH, Chemnitz, GERMANY; Coins for College, Antioch, CA; Everyone's Island, Inc., Montgomery, TX; IQ4, Woodcliff Lake, NJ; Madison County Schools, Danielsville, GA; Minnesota State Colleges and University System, St. Paul, MN; The National eLearning Center, Riyadh, SAUDI ARABIA; National Society of Leadership and Success (NSLS), Miami, FL; New Hanover County Schools, Wilmington, NC; Parkway School District, Chesterfield, MO; Perris Union High School District, Perris, CA; Pioneer RESA, Cleveland, GA; Tigard-Tualatin School District, Tigard, OR; Independent School District No. 1 of Tulsa County, Oklahoma AKA Tulsa Public Schools, Tulsa, OK; and Waynesboro Area School District, Waynesboro, PA, have been added as parties to this venture.

Also, VidGrid, Schaumburg, IL; Texas Education Agency, Austin, TX; Early Learning Quick Assessment (ELQA), Moore, OK; Campus EDU, Marion, IN; Follett School Solutions, McHenry, IL; edX, Cambridge, MA; Illuminate Education, Irvine, CA; and ClassGather, La Vergne, TN, have withdrawn as parties to this venture.

No other changes have been made in either the membership or planned activity of the group research project. Membership in this group research project remains open, and 1EdTech Consortium intends to file additional written notifications disclosing all changes in membership.

On April 7, 2000, 1EdTech Consortium filed its original notification pursuant to Section 6(a) of the Act. The Department of Justice published a notice in the Federal Register pursuant to Section 6(b) of the Act on September 13, 2000 (65 FR 55283).

The last notification was filed with the Department on June 1, 2022. A notice was published in the Federal Register pursuant to Section 6(b) of the Act on June 15, 2022 (87 FR 36147).

Suzanne Morris,
Chief, Premerger and Division Statistics, Antitrust Division.

[FR Doc. 2022-19661 Filed 9-12-22; 8:45 am]

BILLING CODE P